DEPARTMENT OF COMMERCE

National Oceanic and Atmospheric Administration

[RTID 0648-XU005]

Marine Fisheries Advisory Committee

AGENCY: National Marine Fisheries Service (NMFS), National Oceanic and Atmospheric Administration (NOAA), Commerce.

ACTION: Notice; request for nominations.

SUMMARY: Nominations are being sought for appointment to a new task force of the Marine Fisheries Advisory Committee (MAFAC) to support its advisory work for the Secretary of Commerce on living marine resource matters. The task force will provide expert advice on the generation, delivery, and use of electronically reported data from private recreational anglers to assist NMFS in fulfilling its mission activities. NMFS will appoint the members in consultation with MAFAC and they will serve for a term of up to two (2) years. The terms will begin in Spring 2020.

DATES: Nominations must be postmarked or have an email date stamp on or before January 21, 2020.

ADDRESSES: Nominations should be sent to Heidi Lovett, NMFS Office of Policy, 1315 East West Highway, Silver Spring, MD 20910 or to heidi.lovett@noaa.gov.

FOR FURTHER INFORMATION CONTACT: Heidi Lovett, (301) 427-8046; email: heidi.lovett@noaa.gov.

SUPPLEMENTARY INFORMATION: MAFAC is the only Federal advisory committee with the responsibility to advise the Secretary of Commerce (Secretary) on all matters concerning living marine resources that are the responsibility of the Department of Commerce. MAFAC is establishing a Task Force to provide it, and subsequently NMFS, expert advice on the generation, delivery, and use of electronically reported data from private recreational anglers to assist NOAA Fisheries in fulfilling its mission activities. The scope of the Recreational Electronic Reporting Task Force will fall within the objectives and scope of the MAFAC.

Recreational Electronic Reporting Task Force

This Recreational Electronic Reporting Task Force is being created to provide MAFAC, and subsequently NMFS, advice on fulfilling the agency's central role in providing useable high quality, accurate data on recreational fisheries. Task Force advice will support and contribute to the development of an Agency roadmap to advance and guide implementation, where appropriate, of electronic data collection in private recreational fisheries (both shore and boat mode angling). The initial actions for consideration by the Task Force include:

• Identify and prioritize known data gaps relative to NOAA Fisheries' role in supporting management of marine recreational fisheries that could be addressed through mandatory or voluntary private recreational angler electronic reporting programs.

• Identify realistic and achievable goals for voluntary (also known as opt-in) and mandatory electronic reporting for private recreational anglers, as well as associated challenges and solutions, where identifiable.

• Provide recommendations on how the aforementioned goals could be best supported or achieved by NOAA Fisheries.

The Task Force will report to MAFAC and will not provide advice or work products directly to NMFS. Recommendations generated by this Task Force's efforts will not result in any regulatory decision, or obligate any party to undertake certain activities.

This Task Force will consist of approximately 10 individuals who have demonstrated subject matter expertise and experience in one or more relevant fields including, but not limited to, sampling statistics, survey methodologies, citizen science, fishery stock assessment science, electronic monitoring or reporting, fisheries management, database development and/or management, mobile technology applications (apps), and marine recreational fishing. It is not intended that all Task Force members be scientists or researchers; however, other members should have experience with issues related to the generation, delivery, and or use of opt-in electronic data, public attitudes about participating in such programs, or similar ecological self-reporting data systems from which parallels can be drawn. In addition to external members, at least one member of MAFAC will serve on the Task Force.

It is intended that the Task Force membership represent a diversity of the overall expertise and experience being sought. It will be established for an initial period of two (2) years with a possibility of extending that term if deemed necessary by NMFS and MAFAC. Task Force members should be able to fulfill the time commitments required for up to one meeting per month (mostly by webinar or teleconference and potentially in-person), and interim work as necessary. Members of the Task Force are not compensated for their services, but will upon request be provided travel and per diem expenses as authorized by 5 U.S.C. 5701 et seq. To view the full Recreational Electronic Reporting Task Force Terms of Reference, please visit https://www.fisheries.noaa.gov/national/partners/marine-fisheries-advisory-committee-subcommittees-and-task-forces#task-forces.

Nomination Materials

Each nomination submission must include: resume or curriculum vitae of the nominee and a cover letter, not to exceed 3 pages, that describes the nominee's interest in serving on the Task Force and how the nominee's expertise, experience, and other qualifications relate to one or more relevant fields noted in the prior section. Self-nominations are acceptable. The following contact information should accompany each nominee's submission: full name, address, telephone number, and email address.

Nominations should be sent to (see ADDRESSES) and must be received by January 21, 2020. Information about MAFAC, its Committee charter, current membership, and activities can be viewed on the NMFS' website at https://www.fisheries.noaa.gov/topic/partners#marine-fisheries-advisory-committee.

Dated: November 14, 2019.
Jennifer Lukens,
Federal Program Officer, Marine Fisheries Advisory Committee, National Marine Fisheries Service.

[FR Doc. 2019-25174 Filed 11-19-19; 8:45 am]

BILLING CODE 3501-22-P